DEPARTMENT OF COMMERCE

International Trade Administration

A-580-839

Polyester Staple Fiber from Korea; Notice of Extension of Time Limit for Administrative Review

AGENCY: Import Administration, International Trade Administration, Department of Commerce.

ACTION: Notice of extension of time limit.

SUMMARY: The Department of Commerce (“the Department”) is extending the time limit for the preliminary results of the first administrative review of the antidumping duty order on polyester staple fiber from Korea. The period of review is November 8, 1999 through April 30, 2001. This extension is made pursuant to Section 751(a)(3)(A) of the Tariff Act of 1930, as amended by the Uruguay Round Agreements Act (“the Act”).

EFFECTIVE DATE: September 4, 2001.

FOR FURTHER INFORMATION CONTACT: Craig Matney, Office 1, Import Administration, International Trade Administration, U.S. Department of Commerce, 14th Street and Constitution Avenue, NW, Washington DC 20230; telephone (202) 482-1778.

SUPPLEMENTAL INFORMATION: The Department is considering how best to address the review requests in this proceeding given our limited resources. Therefore, the Department finds it is not practicable to complete the preliminary determination by January 31, 2002 (see 751(a)(3)(A) of the Act). Accordingly, the Department is extending the time limit for completion of the preliminary results to no later than May 31, 2002. See 19 CFR 351.302(b).

In accordance with sections 751(a)(1) and 777(i)(1) of the Act, we are issuing and publishing this notice.

Dated: August 28, 2001.
Richard W. Moreland,
Acting Assistant Secretary for Import Administration.

[FR Doc. 01-22146 Filed 8-31-01; 8:45 am]

BILLING CODE 3510-DS-P